INTERNATIONAL TRADE COMMISSION

[USITC SE-09-017]

Government in the Sunshine Act Meeting Notice

Agency Holding the Meeting: United States International Trade Commission.

Time and Date: June 18, 2009 at 11 a.m.

Place: Room 101, 500 E Street, SW., Washington, DC 20436, Telephone: (202) 205-2000.

Status: Open to the public.

Matters to be Considered:

1. Agenda for future meetings: none.

2. Minutes.

3. Ratification List.

4. Inv. No. TA-421-7 (Market Disruption) (Certain Passenger Vehicle and Light Truck Tires from China)—briefing and vote. (The Commission is currently scheduled to transmit its determination on market disruption to the President and the United States Trade Representative by July 9, 2009.)

5. Outstanding action jackets: none.

In accordance with Commission policy, subject matter listed above, not disposed of at the scheduled meeting, may be carried over to the agenda of the following meeting.

By order of the Commission.
Issued: June 5, 2009.
William R. Bishop,
Hearings and Meetings Coordinator.

[FR Doc. E9-13555 Filed 6-5-09; 4:15 pm]

BILLING CODE 7020-02-P